GENERAL SERVICES ADMINISTRATION

41 CFR Part 102-192

[FMR Change 2015-03; FMR Case 2015-102-1; Docket No. 2013-0013; Sequence 1]

RIN 3090-AJ58

Federal Management Regulation (FMR); Mail Management; Requirements for Agencies

AGENCY: Office of Asset and Transportation Management (MA), Office of Government-wide Policy (OGP), General Services Administration (GSA).

ACTION: Final rule.

SUMMARY: GSA is amending the Federal Management Regulations (FMR) reporting requirements to state that large agencies must submit to GSA their prior fiscal year mail reports in the Simplified Mail Accountability Reporting Tool annually by December 1.

DATES: Effective: September 22, 2015.

FOR FURTHER INFORMATION CONTACT: Cynthia Patterson, Office of Government-wide Policy, at 703-589-2641 or by email at cynthia.patterson@gsa.gov for clarification of content. For information pertaining to status or publication schedules, contact the Regulatory Secretariat at 202-501-4755. Please cite FMR Case 2015-102-1.

SUPPLEMENTARY INFORMATION: The revision involves the change of reporting date for the annual report in 41 CFR part 102-192, subpart B, Reporting Requirements. This final rule amends the annual mail management reporting date, in response to several agency requests and feedback in an Office of Government-wide Policy survey. The new report due date allows agencies to have additional time to reconcile data and increase accuracy. The new date of December 1 is about a month later than the current due date of October 31. Annual reports will encompass information from the previous fiscal year of October 1 through September 30. Submission details will be provided in a bulletin posted at www.gsa.gov/fmrbulletin.

A. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action, and therefore, will not be subject to review under Section 6(b) of E.O. 12866, Regulatory Planning and Review, dated September 30, 1993. This final rule is not a major rule under 5 U.S.C. 804.

B. Regulatory Flexibility Act

These revisions are not substantive; therefore, this final rule would not have a significant economic impact on a substantial number of small entities within the meaning of the Regulatory Flexibility Act, 5 U.S.C. 601, et seq. The final rule is also exempt from the Administrative Procedure Act per 5 U.S.C. 553(a)(2), because it applies to agency management or personnel.

C. Paperwork Reduction Act

The Paperwork Reduction Act does not apply because the final changes to the FMR do not impose recordkeeping or information collection requirements, or the collection of information from offerors, contractors, or members of the public that require the approval of the Office of Management and Budget under 44 U.S.C. 3501, et seq.

D. Small Business Regulatory Enforcement Fairness Act

This final rule is also exempt from Congressional review prescribed under 5 U.S.C. 801 since it relates to agency management or personnel.

List of Subjects in 41 CFR Part 102-192

Government property management, Security measures.

Dated: September 9, 2015.
Denise Turner Roth,
Administrator of General Services.

For the reasons set forth in the preamble, GSA is amending 41 CFR part 102-192 as set forth below:

PART 102-192—MAIL MANAGEMENT

1. The authority citation continues to read as follows:

Authority: 44 U.S.C. 2901-2904.

2. Revise § 102-192.105 to read as follows:

§ 102-192.105 When must we submit our annual mail management report to GSA?

Beginning with FY 2015, the agency's annual mail management report is due on December 1, following the end of the fiscal year.

[FR Doc. 2015-23995 Filed 9-21-15; 8:45 am]

BILLING CODE 6820-14-P